DEPARTMENT OF LABOR

Employment and Training Administration

[TA-W-72,585]

Whirlpool Corporation, Evansville Division, Including On-Site Leased Workers From Andrews International, Inc., M.H. Equipment, and Kenco Logistics Services, LLC, Evansville, IN; Amended Certification Regarding Eligibility To Apply for Worker Adjustment Assistance

In accordance with Section 223 of the Trade Act of 1974, as amended (“Act”), 19 U.S.C. 2273, the Department of Labor issued a Certification of Eligibility to Apply for Worker Adjustment Assistance on January 19, 2010, applicable to workers of Whirlpool Corporation, Evansville Division, Evansville, Indiana. The notice was published in the Federal Register on March 5, 2010 (75 FR 10321). The notice was amended on May 25, 2010 to include on-site leased workers from Andrews International, Inc. The notice was published on the Federal Register on June 7, 2010 (75 FR 32221).

At the request of the petitioners, the Department reviewed the certification for workers of the subject firm. The workers are engaged in activities related to the production of top freezer refrigerators and residential ice makers.

The company reports that workers leased from MH Equipment and Kenco Logistics Services, LLC, were employed on-site at the Evansville, Indiana location of Whirlpool Corporation, Evansville Division. The Department has determined that these workers were sufficiently under the control of the subject firm to be considered leased workers.

Based on these findings, the Department is amending this certification to include workers leased from MH Equipment and Kenco Logistics Services, LLC working on-site at the Evansville, Indiana location of Whirlpool, Evansville Division.

The intent of the Department's certification is to include all workers employed at Whirlpool Corporation, Evansville Division, Evansville, Indiana who were adversely affected by a shift in production of top freezer refrigerators and residential ice makers to Mexico.

The amended notice applicable to TA-W-72,585 is hereby issued as follows:

All workers of Whirlpool Corporation, Evansville Division, including on-site leased workers from Andrews International, Inc., Kenco Logistics Services, LLC and MH Equipment, Evansville, Indiana, who became totally or partially separated from employment on or after December 6, 2008, through January 19, 2012, and all workers in the group threatened with total or partial separation from employment on the date of certification through two years from the date of certification, are eligible to apply for adjustment assistance under Chapter 2 of Title II of the Trade Act of 1974, as amended.

Signed at Washington, DC, this 30th day of June 2010.
Elliott S. Kushner,
Certifying Officer, Division of Trade Adjustment Assistance.

[FR Doc. 2010-17457 Filed 7-16-10; 8:45 am]

BILLING CODE 4510-FN-P